NATIONAL AERONAUTICS AND SPACE ADMINISTRATION

[Notice (02-027)]

Aerospace Safety Advisory Panel; Meeting

AGENCY: National Aeronautics and Space Administration, (NASA).

ACTION: Notice of meeting.

SUMMARY: In accordance with the Federal Advisory Committee Act, Public Law 92-463, as amended, the National Aeronautics and Space Administration announces a forthcoming meeting of the Aerospace Safety Advisory Panel (ASAP).

DATES: Friday, March 1, 2002, 12:00 p.m. to 1:00 p.m. Eastern Standard Time.

ADDRESSES: National Aeronautics and Space Administration Headquarters, 300 E Street, SW, Room 5W63, Washington, DC 20546.

FOR FURTHER INFORMATION CONTACT: Mr. David M. Lengyel, Aerospace Safety Advisory Panel Executive Director, Code Q-1, National Aeronautics and Space Administration, Washington, DC 20546, 202/358-0391.

SUPPLEMENTARY INFORMATION: This meeting will be conducted via telecon with Panel members and consultants and NASA's Acting Associate Administrator for Safety and Mission Assurance. It will be open to the public up to the seating capacity of the room (12). The agenda for the meeting is as follows: On July 16, 2001, the Aerospace Safety Advisory Panel was tasked by NASA's Associate Administrator for Safety and Mission Assurance to review the Agency's organizations responsible for research and development of aerospace technology due to an unusually high incidence of costly mishaps. As a result, the ASAP's Aerospace Technology Team visited NASA's aerospace technology Centers including Ames Research Center, Dryden Flight Research Center, Glenn Research Center, and Langley Research Center. Their findings and recommendations will be presented at this telecon.

It is imperative that the meeting be held on this date to accommodate the scheduling priorities of the key participants. Visitors will be requested to sign a visitor's register. Members of the public should contact Ms. Vickie Smith on 202/358-1650 if you plan to attend. Pursuant to standard security procedures, you will be required to sign-in with Security upon arrival where you will be issued a temporary visitor's badge. While you are in the building, you must be escorted by a NASA employee at all times.

Sylvia K. Kraemer,
Advisory Committee Management Officer, National Aeronautics and Space Administration.

[FR Doc. 02-3925 Filed 2-15-02; 8:45 am]

BILLING CODE 7510-01-P